DEPARTMENT OF COMMERCE

National Oceanic and Atmospheric Administration

[Docket No. 100204077-0077-01]

RIN 0648-ZC15

Species Recovery Grants to Tribes Program

AGENCY: Fisheries Protected Resources Program Office (PRPO), National Marine Fisheries Service (NMFS), National Oceanic and Atmospheric Administration (NOAA), Commerce.

ACTION: Notice of funding availability.

SUMMARY: The National Marine Fisheries Service publishes this notice to solicit proposals for the Species Recovery Grants to Tribes Program. The principal objective of the Program is to support recovery efforts that directly benefit threatened or endangered species, recently de-listed species, or candidate species. Recovery efforts may involve management, research, monitoring, and outreach activities or any combination thereof. For FY 2010, NOAA anticipates that approximately $1 million will be available for distribution under this program. Only federally recognized tribes are eligible to apply under this solicitation.

DATES: Applications must be postmarked, provided to a delivery service, or received by www.grants.gov by 11:59 p.m. Eastern Standard Time [April 5, 2010]. Use of a delivery service other than U.S. mail must be documented with a receipt. Please Note: It may take Grants.gov up to two business days to validate or reject an application.

ADDRESSES: The Federal funding announcement and application instructions for this grant program are available via the Grants.gov website at http://www.grants.gov. Applicants without internet access can obtain application instructions from Lisa Manning, NOAA/NMFS/Office of Protected Resources, 1315 East-West Highway, Silver Spring MD 20912, (phone) 301-713-1401, (email) Lisa.Manning@noaa.gov.

FOR FURTHER INFORMATION CONTACT: If you have any questions regarding this proposal solicitation, please contact Lisa Manning or Sean Ledwin at the NOAA/NMFS/Office of Protected Resources, Endangered Species Division, 1315 East-West Highway, Silver Spring, MD 20910, by phone at 301-713-1401, or by email (Lisa.Manning@noaa.gov or Sean.Ledwin@noaa.gov). You may also contact one of the following people in your region for further guidance: Jessica Pruden, Northeast Regional Office (Jessica.Pruden@noaa.gov, 978-282-8482); Karla Reece, Southeast Regional Office (Karla.Reece@noaa.gov, 727-824-5348); Eric Murray, Northwest Regional Office (Eric.Murray@noaa.gov, 503-231-2378); Susan Wang, Southwest Regional Office (Susan.Wang@noaa.gov, 562-980-4199); Barbara Mahoney, Alaska Regional Office (Barbara.Mahoney@noaa.gov, 907-271-3448).

SUPPLEMENTARY INFORMATION: Success in recovering protected species under National Marine Fisheries Service's (NMFS) jurisdiction depends in large part on working cooperatively with other management partners, including tribes. NMFS recognizes the importance of many of these protected species to tribes and ongoing efforts by tribal nations to conserve and protect these species. NMFS is authorized under 16 U.S.C. 661 et seq. to provide Federal assistance to federally recognized tribes to support conservation programs for marine and anadromous species under its jurisdiction. This assistance, provided in the form of grants, can be used to support conservation of endangered, threatened, and candidate or proposed species, as well as post-delisting monitoring of recovered species.

Through this notice, NMFS announces the solicitation of proposals to support conservation programs for marine and anadromous species under its jurisdiction. Funded activities may include development and implementation of management plans, scientific research, and public education and outreach. Proposals should address priority actions identified in an Endangered Species Act (ESA) Recovery Plan where applicable.

Successful applications will be those that demonstrate a direct conservation benefit to the species or its habitat. Proposals involving management activities should demonstrate a high probability of contributing to recovery of the species, especially through mitigation of existing threats or factors inhibiting recovery of the species. Proposals involving scientific research should demonstrate a high probability of providing information that can be used to recover, manage, or improve current management strategies for a given species. Proposals involving public education and outreach projects should demonstrate a high probability of improving or increasing public understanding and participation in conservation activities.

Projects focusing on listed Pacific salmon or steelhead will not be considered under this grant program; conservation efforts for these species may be supported through the Pacific Coastal Salmon Recovery Fund.

The full text of the Federal funding opportunity announcement for this program can be accessed via the Grants.gov web site at http://www.grants.gov. The announcement will also be available by contacting the program officials identified under FOR FURTHER INFORMATION CONTACT. Applications must comply with all requirements contained in the Federal funding opportunity announcement.

Statutory Authority

16 U.S.C. 661 et seq.

CFDA

11.472, Unallied Science Program

Funding Availability

NOAA anticipates that approximately $1 million will be available for distribution under this program in FY 2010. Awards are expected to range between $100,000 and $500,000 in federal funding per year, but proposals requesting less than $100,000 will still be considered. The exact amount of funds that may be awarded will be determined during pre-award negotiations between the applicant and NOAA representatives. Publication of this notice does not oblige NOAA to award any specific grant proposal or to obligate any available funds.

There is no limit on the number of applications that can be submitted by the same Principal Investigator or tribe. Multiple applications submitted by the same applicant must, however, clearly identify distinct projects.

If an application for a financial assistance award is selected for funding, NOAA has no obligation to provide any additional funding in connection with that award in subsequent years. Notwithstanding verbal or written assurance that may have been received, pre-award costs are not allowed under the award unless approved by the Grants Officer in accordance with 2 CFR Part 225.

Eligibility

Eligible applicants are federally recognized tribes as defined under the Federally Recognized Indian Tribe List Act (Public Law 103-454) or Presidential Executive Order. Tribes may apply for funding to conduct work on federally listed species (except Pacific salmon and steelhead), recently de-listed species, and any species that has become a candidate or a proposed species by the grant application deadline. Eligible species are those under NMFS or joint NMFS-U.S. Fish and Wildlife Service jurisdiction. Current lists of candidate, proposed, and de-listed species are available at http://www.nmfs.noaa.gov/pr/species/esa/other.htm; and a current list of threatened and endangered species is available at http://www.nmfs.noaa.gov/pr/pdfs/species/esa_table.pdf.

Federal agencies or institutions are not eligible to receive Federal assistance under this notice. In addition, NOAA and NMFS employees shall not provide assistance in writing applications, write letters of support for any application, or otherwise confer any unfair advantage on a particular application. However, for activities involving collaboration with current NMFS programs, NMFS employees can write a letter verifying that they are collaborating with the project.

Evaluation and Selection Procedures

The general evaluation criteria and selection factors are summarized below. Further information about the evaluation criteria and selection factors can be found in the full funding opportunity announcement.

Evaluation Criteria for Projects

Proposals will be evaluated based on the following criteria (with their relative weights):(1) Importance/relevance and applicability of the proposal to the program goals (35 percent); (2) technical/ scientific merit (30 percent); (3) overall qualifications of the applicants (10 percent); (4) project costs (15 percent); and (5) outreach and education (10 percent). Detailed descriptions of these criteria are provided in the Federal funding opportunity announcement.

Review and Selection Process

Screening, review, and selection procedures will take place in three steps: initial evaluation, merit review, and final selection by the Selecting Official (i.e., the Assistant Administrator for NMFS). Initial screening and evaluation of applications will be conducted to ensure that application packages have all required forms and application elements, and meet all of the eligibility criteria.

Applications meeting the requirements of this solicitation will then undergo merit review. Each application will be reviewed by a minimum of three reviewers, who will independently evaluate and score proposals using the evaluation criteria. Consensus advice will not be provided by the merit reviewers. Merit reviewers will be individuals with appropriate subject-matter expertise and may be from federal or state agencies, academic institutions, or non-profit organizations. The reviewers' ratings will be used to produce a rank order of the proposals.

After applications have undergone merit review, the Selecting Official will make the final decision regarding which applications will be funded based upon the numerical rankings and evaluations of the applications by the merit reviewers as well as the selection factors set forth in the Federal funding opportunity announcement and summarized below.

Selection Factors for Projects

The merit review ratings shall provide a rank order to the Selecting Official for final recommendation to the NOAA Grants Officer. The Selecting Official shall award in the rank order of the review ratings unless the proposal is justified to be selected out of rank order based upon the following factors, where applicable:

a. Availability of funding;

b. Balance/distribution of funds;

i. Geographically;

ii. By type of institutions;

iii. By type of partners;

iv. By research areas;

v. By project types;

c. Whether this project duplicates other projects funded or considered for funding by NOAA or other Federal agencies;

d. Program priorities and policy factors as set out in the Program Objectives, Program Priorities, and Funding Availability sections of the Federal funding opportunity announcement;

e. Applicant's prior award performance;

f. Partnerships with and/or participation of targeted groups;

g. Adequacy of information necessary for NOAA staff to make a NEPA determination and draft necessary documentation before recommendations for funding are made to the Grants Officer.

Intergovernmental Review

Applications under this program are not subject to Executive Order 12372, “Intergovernmental Review of Federal Programs.”

Limitation of Liability

In no event will NOAA or the Department of Commerce be responsible for proposal preparation costs if these programs fail to receive funding or are cancelled because of other agency priorities. Publication of this announcement does not oblige NOAA to award any specific project or to obligate any available funds.

National Environmental Policy Act (NEPA)

NOAA must analyze the potential environmental impacts, as required by the National Environmental Policy Act (NEPA), for applicant projects or proposals that are seeking NOAA federal funding opportunities. Detailed information on NOAA compliance with NEPA can be found at the following NOAA NEPA website: http://www.nepa.noaa.gov/, including our NOAA Administrative Order 216-6 for NEPA, http://www.nepa.noaa.gov/NAO216_6.pdf, and the Council on Environmental Quality implementation regulations, http://ceq.hss.doe.gov/nepa/regs/ceq/toc_ceq.htm. Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants will also be required to cooperate with NOAA in identifying feasible measures to reduce or avoid any identified adverse environmental impacts of their proposed project. The failure to do so shall be grounds for not selecting an application. In some cases if additional information is required after an application is selected, funds can be withheld by the Grants Officer under a special award condition requiring the recipient to submit additional environmental compliance information sufficient to enable NOAA to make an assessment on any impacts that a project may have on the environment.

Department of Commerce Pre-Award Notification Requirements

The Department of Commerce Pre-Award Notification Requirements for Grants and Cooperative Agreements contained in the Federal Register on February 11, 2008 (73 FR 7696), are applicable to this solicitation.

Paperwork Reduction Act

This document contains collection-of-information requirements subject to the Paperwork Reduction Act (PRA). The use of Standard Forms 424, 424A, 424B, and SF LLL and CD 346 has been approved by the Office of Management and Budget (OMB) under the respective control numbers 0648-0043, 0648-0044, 0648-0040, and 0648-0046.

Notwithstanding any other provision of law, no person is required to, nor shall a person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with Federalism implications as that term is defined in Executive Order 13132.

Administrative Procedure Act and Regulatory Flexibility Act

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements for the Regulatory Flexibility Act (5 U.S.C. 601 et seq.) are inapplicable. Therefore, a regulatory flexibility analysis has not been prepared.

Dated: February 12, 2010.
John Oliver,
Deputy Assistant Administrator for Operations, National Marine Fisheries Service.

[FR Doc. 2010-3276 Filed 2-18-10; 8:45 am]

BILLING CODE 3510-22-S